DEPARTMENT OF ENERGY

Federal Energy Regulatory Commission

[Docket No. PF13-7-000]

Columbia Gas Transmission, LLC; Notice of Intent To Prepare an Environmental Assessment for the Planned East Side Expansion Project, Request for Comments on Environmental Issues, and Notice of Public Scoping Meeting

The staff of the Federal Energy Regulatory Commission (FERC or Commission) will prepare an environmental assessment (EA) that will discuss the environmental impacts of the East Side Expansion Project involving construction and operation of pipeline looping ¹ and associated facilities by Columbia Gas Transmission, LLC (Columbia) in Chester County, Pennsylvania and Gloucester County, New Jersey. Columbia also plans to modify one interconnect in New York, three compressor stations in Pennsylvania and one compressor station in Maryland. The Commission will use this EA in its decision-making process to determine whether the project is in the public convenience and necessity.

¹ A loop is a segment of pipe that is installed adjacent to an existing pipeline and connected to it at both ends. The loop allows more gas to be moved through the system.

This notice announces the opening of the scoping process the Commission will use to gather input from the public and interested agencies on the project. Your input will help the Commission staff determine what issues they need to evaluate in the EA. Please note that the scoping period will close on July 8, 2013.

This notice is being sent to the Commission's current environmental mailing list for this project. State and local government representatives should notify their constituents of this planned project and encourage them to comment on their areas of concern.

Comments about the project may be submitted in writing or verbally at the public scoping meeting to be held as described below. To submit written comments, please see the public participation section of this notice.

FERC Public Scoping Meeting East Side Expansion Project

June 18, 2013/7:00 p.m., Sykes Auditorium, West Chester University, 110 West Rosedale Avenue, West Chester, PA 19383

June 19, 2013/7:00 p.m., Woolwich Township Hall, 120 Village Green Drive, Swedesboro, NJ 08085

If you are a landowner receiving this notice, a Columbia representative may contact you about the acquisition of an easement to construct, operate, and maintain the planned facilities. Columbia would seek to negotiate a mutually acceptable agreement. However, if the Commission approves the project, that approval conveys with it the right of eminent domain. Therefore, if easement negotiations fail to produce an agreement, the pipeline company could initiate condemnation proceedings where compensation would be determined in accordance with state law.

A fact sheet prepared by the FERC entitled “An Interstate Natural Gas Facility On My Land? What Do I Need To Know?” is available for viewing on the FERC Web site (www.ferc.gov). This fact sheet addresses a number of typically-asked questions, including the use of eminent domain and how to participate in the Commission's proceedings.

Summary of the Planned Project

Columbia plans to expand and improve its existing natural gas transmission pipeline system to increase operation flexibility and efficiency, provide bi-directional flow capabilities, and an additional 310,000 dekatherms per day of natural gas service to mid-Atlantic markets. Specifically, Columbia plans to construct, modify, install or abandon and replace, and operate the following natural gas transmission pipeline facilities:

• Line 1278 Loop: Construct and operate approximately 8.9 miles of 26-inch-diameter natural gas transmission pipeline, generally running parallel to the existing Line 1278 pipeline in Chester County, Pennsylvania.

• Line 10345 Loop: Construct and operate approximately 7.4 miles of 20-inch-diameter natural gas transmission pipeline, generally running parallel to the existing 10345 pipeline in Gloucester County, New Jersey.

• Wagoner Interconnect (Sparrowbush, New York): Modify the existing interconnect with the Millennium Pipeline to facilitate additional service.

• Milford Compressor Station (Milford, Pennsylvania): Abandon the existing compressors and replace them with two Solar turbine-driven centrifugal compressors totaling 6,600 horsepower (hp). Also, upgrade compressor station piping and metering facilities.

• Easton Compressor Station (Easton, Pennsylvania): Abandon the existing compressors and replace them with two Solar turbine-driven centrifugal compressors totaling 19,500 hp.

• Eagle Compressor Station (Chester Springs, Pennsylvania): Install additional piping and valves.

• Rutledge Compressor Station (Fallston, Maryland): Modify the compressor station mainline valve setting.

The general locations of the project facilities are shown in Appendix 1.²

² The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

Land Requirements

According to Columbia, construction of the planned facilities would require the temporary use of approximately 195.78 acres of land. Operation of the planned facilities would require the permanent use of approximately 52.01 acres of land. About 89 percent of the planned pipeline would be co-located with and parallel to existing Columbia natural gas transmission pipeline.

The EA Process

The National Environmental Policy Act (NEPA) requires the Commission to take into account the environmental impacts that could result from an action whenever it considers the issuance of a Certificate of Public Convenience and Necessity. NEPA also requires us ³ to discover and address concerns the public may have about proposals. This process is referred to as scoping. The main goal of the scoping process is to focus the analysis in the EA on the important environmental issues. By this notice, the Commission requests public comments on the scope of the issues to address in the EA. We will consider all filed comments during the preparation of the EA.

³ “We,” “us,” and “our” refer to the environmental staff of the Commission's Office of Energy Projects.

In the EA we will discuss impacts that could occur as a result of the construction and operation of the planned project under these general headings:

• Geology and soils;

• Water resources, fisheries, and wetlands;

• Vegetation and wildlife;

• Endangered and threatened species;

• Cultural resources;

• Land use;

• Socioeconomics;

• Air quality and noise;

• Reliability and safety; and

• Cumulative environmental impacts.

We will also evaluate possible alternatives to the planned project or portions of the project, and make recommendations on how to lessen or avoid impacts on the various environmental resources.

Although no formal application has been filed, we have already initiated our NEPA review under the Commission's pre-filing process. The purpose of the pre-filing process is to encourage early involvement of interested stakeholders and to identify and resolve issues before the FERC receives an application. As part of our pre-filing review, we have begun to contact some federal and state agencies to discuss their involvement in the scoping process and the preparation of the EA.

Our independent analysis of the issues will be presented in the EA. The EA will be available in the public record through the Commission's eLibrary. Depending on the comments received during the scoping process, we may also publish and distribute the EA to the public for an allotted comment period. We will consider all comments on the EA before we make our recommendations to the Commission. To ensure your comments are considered, please carefully follow the instructions in the Public Participation section of this notice.

With this notice, we are asking agencies with jurisdiction by law and/or special expertise with respect to the environmental issues related to this project to formally cooperate with us in the preparation of the EA.⁴ Agencies that would like to request cooperating agency status should follow the instructions for filing comments provided under the Public Participation section of this notice. Currently, the U.S. Army Corps of Engineers has expressed its intention to participate as a cooperating agency in the preparation of the EA to satisfy its NEPA responsibilities related to this project.

⁴ The Council on Environmental Quality regulations addressing cooperating agency responsibilities are at Title 40, Code of Federal Regulations, Part 1501.6.

Consultations Under Section 106 of the National Historic Preservation Act

In accordance with the Advisory Council on Historic Preservation's implementing regulations for section 106 of the National Historic Preservation Act, we are using this notice to initiate consultation with applicable State Historic Preservation Office(s), and to solicit their views and those of other government agencies, interested Indian tribes, and the public on the project's potential effects on historic properties.⁵ We will define the project-specific Area of Potential Effects (APE) in consultation with the SHPOs as the project develops. On natural gas facility projects, the APE at a minimum encompasses all areas subject to ground disturbance (examples include construction right-of-way, contractor/pipe storage yards, compressor stations, and access roads). Our EA for this project will document our findings on the impacts on historic properties and summarize the status of consultations under section 106.

⁵ The Advisory Council on Historic Preservation regulations are at Title 36, Code of Federal Regulations, Part 800. Those regulations define historic properties as any prehistoric or historic district, site, building, structure, or object included in or eligible for inclusion in the National Register of Historic Places.

Currently Identified Environmental Issues

We have already identified several issues that we think deserve attention based on a preliminary review of the planned facilities and the environmental information provided by Columbia. This preliminary list of issues may change based on your comments and our analysis. Issued identified include:

• Potential impacts on residences in close proximity to the right-of-way;

• Potential cumulative impacts from multiple pipelines on a single property;

• Tree clearing;

• Erosion and sediment control; and

• Potential impacts on water quality.

Public Participation

You can make a difference by providing us with your specific comments or concerns about the project. Your comments should focus on the potential environmental effects, reasonable alternatives, and measures to avoid or lessen environmental impacts. The more specific your comments, the more useful they will be. To ensure that your comments are timely and properly recorded, please send your comments so that the Commission receives them in Washington, DC on or before July 8, 2013. However, this is not your only public input opportunity.

For your convenience, there are three methods you can use to submit your comments to the Commission. In all instances, please reference the project docket number (PF13-7-000) with your submission. The Commission encourages electronic filing of comments and has expert staff available to assist you at (202) 502-8258 or efiling@ferc.gov.

(1) You can file your comments electronically using the eComment feature located on the Commission's Web site (www.ferc.gov) under the link to Documents and Filings. This is an easy method for interested persons to submit brief, text-only comments on a project;

(2) You can file your comments electronically using the eFiling feature located on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address: Kimberly D. Bose, Secretary, Federal Energy Regulatory Commission, 888 First Street NE., Room 1A, Washington, DC 20426.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who submits comments on the project. We will update the environmental mailing list as the analysis proceeds to ensure that we send the information related to this environmental review to all individuals, organizations, and government entities interested in and/or potentially affected by the planned project.

Copies of the completed draft EA will be sent to the environmental mailing list for public review and comment. If you would prefer to receive a paper copy of the document instead of the CD version or would like to remove your name from the mailing list, please return the attached Information Request (Appendix 2).

Becoming an Intervenor

Once Columbia files its application with the Commission, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site. Please note that the Commission will not accept requests for intervenor status at this time. You must wait until the Commission receives a formal application for the project.

Additional Information

Additional information about the project is available from the Commission's Office of External Affairs, at (866) 208-FERC, or on the FERC Web site (www.ferc.gov) using the eLibrary link. Click on the eLibrary link, click on “General Search” and enter the docket number, excluding the last three digits in the Docket Number field (i.e., PF13-7-000). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/esubscribenow.htm.

Finally, public meetings or site visits will be posted on the Commission's calendar located at www.ferc.gov/EventCalendar/EventsList.aspx along with other related information.

Dated: June 6, 2013.
Kimberly D. Bose,
Secretary.

[FR Doc. 2013-14017 Filed 6-12-13; 8:45 am]

BILLING CODE 6717-01-P